ENVIRONMENTAL PROTECTION AGENCY

[FRL-6711-3]

Science Advisory Board; Notification of Public Advisory Committee Meeting

Pursuant to the Federal Advisory Committee Act, Public Law 92-463, notice is hereby given that the Clean Air Scientific Advisory Committee (CASAC) Technical Subcommittee for Fine Particle Monitoring will meet on Wednesday, June 21, 2000 from 11 am to 2 pm Eastern Daylight Time. The meeting will be coordinated through a conference call connection in Room 6013 in the USEPA, Ariel Rios Building North, 1200 Pennsylvania Avenue, NW, Washington, DC 20460. The public is encouraged to attend the meeting in the conference room noted above. However, the public may also attend through a telephonic link, to the extent that lines are available (phone lines will be very limited). Additional instructions about how to participate in the meeting can be obtained by calling Ms. Diana Pozun prior to the meeting at (202) 564-4544, or via e-mail at <pozun.diana@epa.gov>. Important Notice: Documents that are the subject of CASAC reviews are normally available from the originating EPA office and are not available from the CASAC Office—information concerning availability of documents from the relevant Program Office is included below.

Purpose of the Meeting—This technical subcommittee of CASAC was established in 1996 to provide advice and comment to EPA (through CASAC) on appropriate methods and network strategies for monitoring fine particles in the context of implementing the revised national ambient air quality standards (NAAQS) for particulate matter. The Subcommittee provided such advice on the Federal Reference Method (FRM) and mass-based fine particle network in July 1996, and has recently examined EPA's plans and guidance for several components of the fine particle monitoring network and how these components are linked to research priorities for particulate matter (see 65 FR 16916, March 30, 2000 for more details).

In May 2000, Staff from EPA's Office of Research and Development (ORD) requested that CASAC, through its Technical Subcommittee on Fine Particle Monitoring, conduct a peer review of the report prepared in response to Section 6102(e) of the Transportation Equity Act for the 21st Century, which states: “The Administrator shall conduct a field study of the ability of the PM2.5 Federal Reference Method to differentiate those particles that are larger than 2.5 micrograms [sic] in diameter. This study shall be completed and provided to the Committee on Commerce of the House of Representatives and the Committee on Environment and Public Works of the United States Senate no later than two years from the date of enactment of this Act.”

Charge to the Subcommittee: ORD has had the draft report reviewed by two external expert reviewers, incorporating their comments prior to submitting the report to the CASAC Subcommittee for a full independent peer review. The Agency has asked that the Subcommittee respond to the following questions: (a) Has the proper methodology been used to address the requirement in the Transportation Equity Act? (b) Was the methodology applied correctly? and (c) Is the Report's interpretation correct? The Subcommittee may also address other issues.

Availability of Review Materials: Single copies of the review document are available from Mr. Frank McElroy, Office of Research and Development (MD-46), U.S. EPA, Research Triangle Park, NC 27711. Mr. McElroy can also be reached by telephone at (919) 541-2622, fax at (919) 541-1153, or e-mail: <mcelroy.frank@epa.gov>. Please ask for: “Response to Section 6102(e) of the Transportation Equity Act for the 21st Century” dated May 2000, EPA 600/R-00/033, prepared by USEPA's National Exposure Research Laboratory (NERL), RTP, NC.

For Further Information: Members of the public desiring additional information about the meeting should contact Mr. Robert Flaak, Designated Federal Officer, Clean Air Scientific Advisory Committee, Science Advisory Board (1400A), Suite 6450, U.S. EPA, 1200 Pennsylvania Avenue, NW, Washington, DC 20460; telephone/voice mail at (202) 564-4546; fax at (202) 501-0582; or via e-mail at <flaak.robert@epa.gov>. A copy of the draft agenda is available from Ms. Diana Pozun at (202) 564-4544 or by FAX at (202) 501-0582 or via e-mail at <pozun.diana@epa.gov>.

Members of the public who wish to make a brief oral presentation to the Subcommittee (in Room 6013 only) must contact Mr. Flaak in writing (by letter or by fax—see previously stated information) no later than 12 noon Eastern Daylight Savings Time, Wednesday, June 14, 2000 in order to be included on the Agenda. Public comments will be limited to five minutes per speaker or organization; 15 minutes total. The request should identify the name of the individual making the presentation, and the organization (if any) they will represent.

Please note: If we receive more requests than we can accommodate, time of receipt in the CASAC office will determine priority, with the first three requests granted time. All others will have to provide written comments. Written comments of any length may be submitted to Mr. Flaak at any time until the date of the meeting. Please provide at least 25 copies. The Science Advisory Board expects that public statements presented at its meetings will not be repetitive of previously submitted oral or written statements.

Individuals requiring special accommodation at this meeting, including wheelchair access to the conference room, should contact Mr. Flaak at least five business days prior to the meeting so that appropriate arrangements can be made.

Dated: May 31, 2000.
Donald G. Barnes,
Staff Director, Science Advisory Board.

[FR Doc. 00-14178 Filed 6-5-00; 8:45 am]

BILLING CODE 6560-50-P